DEPARTMENT OF LABOR

Office of the Secretary

Submission for OMB Review: Comment Request

November 29, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

AGENCY: Occupational Safety and Health Administration.

Type of Review: Extension of currently approved collection.

Title: Occupational Safety and Health State Plan Information.

OMB Number: 1218-0247.

Frequency: On occasion; Quarterly; and Annually.

Type of Response: Reporting.

Affected Public: State, Local, or Tribal Government.

Number of Respondents: 27.

Number of Annual Responses: 1,240.

Estimated Time Per Response: Varies from one hour to respond to an information survey to 80 hours to document State annual performance goals.

Total Burden Hours: 10,522.

Total Annualized capital/startup costs: $0.

Total Annual Costs (operating/maintaining systems or purchasing services): $0.

Description: Section 18 of the Occupational Safety and Health Act of 1970 (the Act) encourages the States to assume responsibility for the development and enforcement of State occupational safety and health standards through the vehicle of an approved State plan. Absent a plan approved by the Occupational Safety and Health Administration (OSHA), States are preempted from asserting jurisdiction over any occupational safety and health issue with respect to which a Federal standard has been promulgated. Section 18 establishes the basic criteria for State plan approval; provides for the exercise of concurrent Federal enforcement jurisdiction after initial plan approval until such time as the State has demonstrated that it is meeting the approval criteria in actual operation (final State Plan approval), at which point Federal enforcement jurisdiction may be relinquished; provides that State standards and enforcement must be, and continue to be, “at least as effective” as the Federal program including any changes thereto; and requires OSHA to make a continuing evaluation of the manner in which the State is implementing its program and to take action to withdraw plan approval should there be a failure to substantially comply with any provision of the State plan.

OSHA promulgated a series of regulations between 1970 and 1977 implementing the provisions of section 18 of the Act. 29 CFR 1953 was revised in 2002.

• 29 CFR part 1902, State Plans for the Development and Enforcement of State Standards.

• 29 CFR part 1952, Approved State Plans for Enforcement of State Standards.

• 29 CFR part 1953, Changes to State Plans.

• 29 CFR part 1954, Procedures for the Evaluation and Monitoring of Approved State Plans.

• 29 CFR part 1955, Procedures for Withdrawal of Approval of State Plans.

• 29 CFR part 1956, State Plans for the Development and Enforcement of State Standards Applicable to State and Local Government Employees in States without Approved Private Employee Plans.

The requirements for State submissions on the structure and performance of their OSHA-approved State Plan, as established by the various State Plan regulations, are necessary to provide OSHA with sufficient information to assure that the State plan provides a program of standards and enforcement and voluntary compliance to employers and employees in that State that is “at least as effective” as the Federal OSHA program and thus warrants continued Federal approval and funding.

Ira L. Mills,
Departmental Clearance Officer.

[FR Doc. E5-6824 Filed 12-2-05; 8:45 am]

BILLING CODE 4510-26-P